MERIT SYSTEMS PROTECTION BOARD

Agency Information Collection Activities; Proposed Collection; Comment Request

AGENCY: Merit Systems Protection Board.

ACTION: 30-Day notice and request for comments.

SUMMARY: The U.S. Merit Systems Protection Board (MSPB or Board) is seeking approval of a new Information Collection Request (ICR) in accordance with the Paperwork Reduction Act (PRA). The ICR will be submitted to the Office of Management and Budget (OMB) for review and clearance. This information collection is part of MSPB's statutory mission to adjudicate appeals of certain Federal agency personnel and retirement actions and certain alleged violations of law. The information collection instruments consist of the Initial Appeal Form (Form 185) in different collection mediums: paper, PDF, and through MSPB's electronic filing system, e-Appeal. Through this collection and approval process, MSPB is complying with normal clearance procedures. The purpose of this notice is to allow 30 days for public comment after submission of the collection to OMB.

DATES: Consideration will be given to all comments received by September 8, 2023.

ADDRESSES: Submit written comments on the proposed information collection to the Office of Information and Regulatory Affairs, OMB. Comments should be addressed to the Desk Officer for the Merit Systems Protection Board and sent via electronic mail to oira.submission@omb.eop.gov.

All comments must reference OMB Control No. 3124-0NEW, E-Appeal/U.S. Merit Systems Protection Board. All submissions will be posted, without change, to MSPB's website (www.mspb.gov) and will include any personal information you provide. Therefore, submitting this information makes it public.

FOR FURTHER INFORMATION CONTACT: D. Fon Muttamara, Chief Privacy Officer, at privacy@mspb.gov; (202) 653-7200. You may submit written questions to the Office of the Clerk of the Board by any of the following methods: by email to privacy@mspb.gov or by mail to Clerk of the Board, U.S. Merit Systems Protection Board, 1615 M Street NW, Washington, DC 20419. Please reference OMB Control No. 3124-0NEW, E-Appeal/U.S. Merit Systems Protection Board Appeal Form, with your questions.

SUPPLEMENTARY INFORMATION: MSPB is authorized to adjudicate appeals of certain Federal agency personnel and retirement actions and certain alleged violations of law. See 5 U.S.C. 7701(a); 5 U.S.C. 1204. The Board has published its regulations for processing appeals at 5 CFR parts 1201, 1208, and 1209, which include the information required to be submitted to initiate a new appeal. Individuals must provide this information in writing and are not required to use a particular format. Included in this process are collections related to the administration of the appeals process, including point of contact information for appellant attorney representatives who will use the e-Appeal system and a technical support request form for e-Appeal users.

The purpose of collecting the information is to ensure that individuals submit the required information to file an appeal, as set forth in MSPB's regulations. While no specific format is required, MSPB provides an appeal form, MSPB Form 185 (Initial Appeal Form), to assist individuals in the efficient and timely submission of the information.

As set forth in statute and regulation, MSPB is a quasi-judicial agency of limited jurisdiction. The Board's regulations require that appellants provide certain information when filing an appeal so that the Board can determine whether it has jurisdiction over the appeal and whether the appeal has been filed within the applicable time limit. Although an appeal may be filed in any format, including letter form, the Initial Appeal Form is designed to assist individuals in submitting the required information, and to ensure that individuals file appeals that meet the jurisdictional requirements of MSPB. The information required to file an appeal is set forth at 5 CFR 1201.24, 1208.13, 1208.23, and 1209.6. Once obtained, this information allows MSPB to docket the appeal for assignment to an administrative judge or administrative law judge to adjudicate the appeal. If this information is not collected, the process of determining whether MSPB has jurisdiction over any given appeal and any subsequent adjudication will be less efficient and more time consuming.

While this is a new information collection, MSPB has a currently approved information collection, OMB No. 3124-0009, which collects the same information. MSPB has used the information collected through OMB No. 3124-0009 to determine whether MSPB has jurisdiction over any given appeal, and to docket those appeals for adjudication. MSPB is submitting this information collection as a new collection—instead of a renewal of the existing collection—to make an administrative change to the type of collection in accordance with the PRA. This change is unrelated to the overall purpose and use of the information collection. Following OMB approval of this new collection, the existing collection, OMB No. 3124-0009, will be discontinued.

Appeal Form 185

The Initial Appeal Form (Form 185) for this new collection is substantially similar to the currently-approved Initial Appeal Form with the following updates. The instructions at the beginning of the PDF version of the Initial Appeal Form have been updated to address changes in laws or regulations. In addition, the Privacy Act Statement and Public Reporting Burden notice have been updated and moved to the second page of the Initial Appeal Form. The list of agency personnel actions in Part 2 of the Initial Appeal Form has been updated to address changes in laws. Other non-substantive formatting issues have been made throughout the Initial Appeal Form.

Law Firm Point of Contact Collection Form

The law firm point of contact collection form is a new instrument that will collect information to support functionality in MSPB's new e-Appeal system used by attorneys who are the designated representatives of individuals filing an appeal with MSPB.

e-Appeal Technical Support Collection Form

The e-Appeal technical support collection form will collect information from individuals who experience technical issues with MSPB's new e-Appeal system.

Title: Information Collection Submission for “E-Appeal/U.S. Merit Systems Protection Board Appeal Form.”

OMB Number: 3124-0NEW.

Type of Information Collection: This will be a new information collection.

ICR Status: MSPB intends to request approval of a new information collection from OMB under the Paperwork Reduction Act of 1995 (44 U.S.C. 3506 and 3507). An Agency may not conduct or sponsor, and a person is not required to respond to, a collection of information, unless it displays a currently valid OMB control number.

Abstract of Proposed Collection: This information collection is necessary to ensure that individuals submit the required information to file an appeal, as set forth in MSPB's regulations, including information about the appellant and the personnel action or decision that is being appealed.

Affected Public: Individuals and Households.

Estimated Total Number of Respondents: 5,000.

Estimated Frequency of Responses: Once per year.

Estimated Total Average Number of Responses for Each Respondent: 1.

Estimated Total Annual Burden Hours: 7,500.

Estimated Total Cost: $294,075.

Comments: Comments should be submitted as indicated in the ADDRESSES caption above. Comments are solicited to: (a) evaluate whether the collection of information is necessary for the proper performance of the functions of MSPB, including whether the information shall have practical utility; (b) evaluate the accuracy of MSPB's estimate of the burden of the collection of information; (c) enhance the quality, utility, and clarity of the information to be collected; (d) minimize the burden of the collection of information on respondents, including through the use of automated collection techniques or other forms of information technology; and (e) evaluate the estimates of capital or start-up costs and costs of operation, maintenance, and purchase of services to provide information. Burden means the total time, effort, or financial resources expended by persons to generate, maintain, retain, disclose, or provide information to or for a Federal agency. This includes the time needed to review instructions; to develop, acquire, install, and utilize technology and systems for the purpose of collecting, validating and verifying information, processing and maintaining information, and disclosing and providing information; to train personnel and to be able to respond to a collection of information, to search data sources, to complete and review the collection of information; and to transmit or otherwise disclose the information.

Jennifer Everling,
Acting Clerk of the Board.

[FR Doc. 2023-17082 Filed 8-8-23; 8:45 am]

BILLING CODE 7400-01-P